DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NACNHSC).

Dates and Times: June 22, 2016 11:00 a.m.-5:00 p.m. EST.

Place: U.S. Department of Health and Human Services, Health Resources and Services Administration, Conference Room #5E29, 5600 Fishers Lane, Rockville, Maryland 20857, Webinar and Conference Call Format.

Status: This advisory council meeting will be open to the public.

Purpose: The NACNHSC provides advice and recommendations to the Secretary of the U.S. Department of Health and Human Services (HHS) and, by designation, the Administrator of the Health Resources and Services Administration (HRSA) on a range of issues including identifying the priorities for the National Health Service Corps (NHSC) and policy revisions.

Agenda: The NACNHSC will refine the Council's top priorities for the NHSC and will continue to work on the draft of formal recommendations to submit to the HHS Secretary and the HRSA Administrator. During the March 2016 NACNHSC meeting, the Council identified its priorities for the NHSC. The Council will continue the discussion on how the priorities meet the goals of the 2016 Bureau of Health Workforce Strategic Plan. The priority areas include, but are not limited to, telehealth, Medication Assisted Treatment (MAT) certification, mentorship and NHSC discipline expansion, specifically for mental and behavioral and oral health providers. The content of the agenda is subject to change prior to the meeting. The NACNHSC final agenda and call-in information will be available 3 days in advance of the meeting at http://nhsc.hrsa.gov/corpsexperience/aboutus/nationaladvisorycouncil/meetingsummaries/index.html.

FOR FURTHER INFORMATION CONTACT: Please send requests for information to Dawn Smith, Bureau of Health Workforce, HRSA, in one of two ways: (1) Send a request to the following address: Dawn Smith, Bureau of Health Workforce, Health Resources and Services Administration, Room 14N70B, 5600 Fishers Lane, Rockville, Maryland 20857; or (2) send an email to dsmith3@hrsa.gov.

SUPPLEMENTARY INFORMATION: Further information regarding the NACNHSC, including the roster of members and past meeting summaries, is available at: http://nhsc.hrsa.gov/corpsexperience/aboutus/nationaladvisorycouncil/meetingsummaries/index.html.

Members of the public and interested parties may request to participate in the meeting by contacting Dawn Smith via email at dsmith3@hrsa.gov to obtain access information. Access will be granted on a first come, first served basis. Individuals who plan to attend and need special assistance, such as sign language interpretation or other reasonable accommodations, should notify the contact person listed above at least 10 days prior to the meeting. Public participants may submit written statements in advance of the scheduled meeting. If you would like to provide oral public comment during the meeting, please register with Dawn Smith. Public comment will be limited to 3 minutes per speaker. Statements and comments can be addressed to Dawn Smith by emailing her at dsmith@hrsa.gov.

In addition, please be advised that committee members are given copies of all written statements submitted from the public. Any further public participation will be solely at the discretion of the Chair, with approval of the Designated Federal Official. Registration through the designated contact for the public comment session is required.

Jason E. Bennett,
Director, Division of the Executive Secretariat.

[FR Doc. 2016-13052 Filed 6-1-16; 8:45 am]

BILLING CODE 4165-15-P